DEPARTMENT OF COMMERCE

National Oceanic and Atmospheric Administration

[RTID 0648-XE979]

Endangered and Threatened Species; Take of Anadromous Fish

AGENCY: National Marine Fisheries Service (NMFS), National Oceanic and Atmospheric Administration (NOAA), Commerce.

ACTION: Notice; availability of a proposed evaluation and pending determination; request for comments.

SUMMARY: The Yurok Tribe provided a Tribal Resource Management Plan (TRMP) to NMFS pursuant to the limitation on take prohibitions for actions conducted under Tribal Plans promulgated under the Endangered Species Act (ESA). The TRMP specifies harvest and monitoring activities for tribal fisheries affecting ESA-listed Southern Oregon/Northern California Coast coho salmon in the portion of the Klamath River within the Yurok Reservation. NMFS has prepared a Proposed Evaluation and Pending Determination (PEPD) as to whether implementation of the TRMP will appreciably reduce the likelihood of survival and recovery of ESA-listed salmon and steelhead. Notice is hereby given that the PEPD is available for public review and comment prior to NMFS making a final determination.

DATES: Comments must be received at the appropriate address (see ADDRESSES) no later than 5 p.m. Pacific time on August 27, 2025. Comments received after this date may not be accepted.

ADDRESSES: Comments may be submitted by email. The mailbox address for providing email comments is: salmon.harvest.comments@noaa.gov. In the subject line of the email, include the following identifier: “Comments on Yurok Tribal Fisheries Determination.” The document available for public comment can be found at: https://www.fisheries.noaa.gov/action/tribal-resource-management-plan-trmp-yurok-tribe.

FOR FURTHER INFORMATION CONTACT: Anthony Siniscal at 971-322-8407, or via email: Anthony.Siniscal@noaa.gov.

SUPPLEMENTARY INFORMATION:

ESA Listed Species Covered in This Notice

Southern Oregon/Northern California Coast Coho salmon (Oncorhynchus kisutch): threatened, naturally produced, and artificially propagated.

Background

The proposed TRMP provides a framework through which tribal salmon fisheries can be implemented while meeting requirements specified under the ESA. Activities described in the plan include tribal fisheries for coho salmon in the Klamath River. The TRMP describes the proposed fisheries, limits for harvest, and monitoring associated with the fisheries. The management objective is for the Yurok Tribe to conduct fisheries in a manner that does not appreciably reduce the likelihood of survival and recovery of ESA-listed coho salmon.

The Yurok Tribe submitted a TRMP to NMFS for review under the ESA Tribal 4(d) Rule. Under section 4 of the ESA, the Secretary of Commerce (Secretary) is required to adopt such regulations as deemed necessary and advisable for the conservation of species listed as threatened. The ESA salmon and steelhead 4(d) rule (50 CFR 223.203; 65 FR 42422, July 10, 2000, as updated in 70 FR 37160, June 28, 2005) applies the prohibitions of section 9 to fish with an intact adipose fin that are part of a threatened West Coast salmon ESU or steelhead DPS, and specifies categories of activities that are exempted from the ESA section 9 take prohibitions. The ESA Tribal 4(d) Rule (50 CFR 223.204; 65 FR 42481, July 10, 2000) states that the take prohibitions of ESA section 9 will not apply to Tribal Plans provided that the Secretary has determined that the Tribal Plan will not appreciably reduce the likelihood of survival and recovery for the listed species (50 CFR 223.204(a)). Prior to making a final determination on Tribal Plans, NMFS must take public comments on its pending determination as to whether or not implementation of the plan will appreciably reduce the likelihood of survival and recovery of ESA-listed salmonids (50 CFR 223.204(b)(3)).

(Authority: 16 U.S.C. 1531 et seq.; 16 U.S.C. 742a et seq.)

Dated: July 23, 2025.
Kelly Denit,
Director, Office of Sustainable Fisheries, National Marine Fisheries Service.

[FR Doc. 2025-14111 Filed 7-25-25; 8:45 am]

BILLING CODE 3510-22-P